DEPARTMENT OF HOMELAND SECURITY

Coast Guard

33 CFR Part 117

[Docket No. USCG-2010-1134]

Drawbridge Operation Regulations; Merrimack River, Newburyport and Salisbury, MA

AGENCY: Coast Guard, DHS.

ACTION: Notice of temporary deviation from regulations.

SUMMARY: The Commander, First Coast Guard District, has issued a temporary deviation from the regulation governing the operation of the Newburyport US1 Bridge across the Merrimack River, at mile 3.4, between Newburyport and Salisbury, Massachusetts. The deviation is necessary to paint the bridge. This deviation allows the bridge to remain in the closed position.

DATES: This deviation is effective from February 15, 2011 through April 30, 2011.

ADDRESSES: Documents mentioned in this preamble as being available in the docket are part of docket USCG-2010-1134 and are available online at http://www.regulations.gov, inserting USCG-2010-1134 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. John McDonald, Project Officer, First Coast Guard District, john.w.mcdonald@uscg.mil, or telephone (617) 223-8364. If you have questions on viewing the docket, call Renee V. Wright, Program Manager, Docket Operations, telephone 202-366-9826.

SUPPLEMENTARY INFORMATION: The Newburyport US1 Bridge, across the Merrimack River at mile 3.4, between Newburyport and Salisbury, Massachusetts, has a vertical clearance in the closed position of 35 feet at mean high water and 42 feet at mean low water. The drawbridge operation regulations are listed at 33 CFR 117.605.

The owner of the bridge, Massachusetts Department of Transportation, requested a temporary deviation from the regulations to facilitate scheduled bridge painting at the bridge.

The waterway is predominantly recreational vessels. This temporary deviation is being scheduled during the winter months when the bridge normally does not receive requests to open.

Under this temporary deviation the Newburyport US1 Bridge may remain in the closed position from February 15, 2011 through April 30, 2011.

Vessels that can pass under the bridge in the closed position may do so at any time.

In accordance with 33 CFR 117.35(e), the bridge must return to its regular operating schedule immediately at the end of the designated time period. This deviation from the operating regulations is authorized under 33 CFR 117.35.

Dated: January 5, 2011.
Gary Kassof,
Bridge Program Manager, First Coast Guard District.

[FR Doc. 2011-1196 Filed 1-19-11; 8:45 am]

BILLING CODE 9110-04-P